DEPARTMENT OF THE INTERIOR

Bureau of Land Management

[WO-350-1430-PE-24 1A]

OMB Control Number 1004-0009; Information Collection Submitted to the Office of Management and Budget Under the Paperwork Reduction Act

The Bureau of Land Management (BLM) has submitted an extension of a currently approved collection to collect the information listed below to the Office of Management and Budget (OMB) under the provisions of the Paperwork Reduction Act (44 U.S.C. 3501 et seq.). On February 5, 2003, the BLM published a notice in the Federal Register (68 FR 5912) requesting comment on this information collection. The comment period ended on April 7, 2003. The BLM received no comments. You may obtain copies of the collection of information and related forms and explanatory material by contacting the BLM Information Collection Clearance Officer at the telephone number listed below.

The OMB must respond to this request within 60 days but may respond after 30 days. For maximum consideration your comments and suggestions on the requirements should be directed within 30 days to the Office of Management and Budget, Interior Department Desk Officer (1004-0009), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of BLM's estimate of the burden of collecting the information, including the validity of the methodology and assumptions used;

3. The quality, utility and clarity of the information we collect; and

4. How to minimize the burden of collecting the information on those who are to respond, including the use of appropriate automated electronic, mechanical, or other forms of information technology.

Title: Land Use Application and Permit (43 CFR 2920).

OMB Control Number: 1004-0009.

Bureau Form Number: 2920-1.

Abstract: The BLM uses the information to allow State and local governments and private citizens to use, occupy, or develop the public lands under certain conditions. The land uses that may be authorized are agriculture development, residential uses, recreation concessions, and business uses, industrial uses, and commercial uses.

Frequency: Once.

Description of Respondents: States and local governments, and nonprofit corporations and associations.

Estimated Completion Time: Varies 1-120 hours.

Annual Responses: 590.

Information Collection Cost Recovery Fee: $22 for permits and easements and $242 for leases.

Annual Burden Hours: 2,137.

Bureau Clearance Officer: Ian Senio, (202) 452-5033.

Dated: October 8, 2004.
Ian Senio,
Bureau of Land Management, Information Collection Clearance Officer.

[FR Doc. 04-23462 Filed 10-19-04; 8:45 am]

BILLING CODE 4310-84-M